DEPARTMENT OF ENERGY

Federal Energy Regulatory Commission

Combined Notice of Filings #1

Take notice that the Commission received the following electric corporate filings:

Docket Numbers: EC18-133-000.

Applicants: Union Electric Company, TG High Prairie, LLC.

Description: Joint Application for Authorization Under Section 203 of the Federal Power Act of Union Electric Company, Inc., et al.

Filed Date: 8/9/18.

Accession Number: 20180809-5035.

Comments Due: 5 p.m. ET 8/30/18.

Docket Numbers: EC18-134-000.

Applicants: Boulder Solar III, LLC.

Description: Application for Authorization Under Section 203 of the Federal Power Act of Boulder Solar III, LLC.

Filed Date: 8/9/18.

Accession Number: 20180809-5140.

Comments Due: 5 p.m. ET 8/30/18.

Docket Numbers: EC18-135-000.

Applicants: 64KT 8me LLC.

Description: Application for Authorization under Section 203 of the Federal Power Act, et al. of 64KT 8me LLC.

Filed Date: 8/9/18.

Accession Number: 20180809-5146.

Comments Due: 5 p.m. ET 8/30/18.

Docket Numbers: EC18-136-000.

Applicants: JERA Power Compass, LLC, Dighton Power, LLC, Marco DM Holdings, L.L.C., Marcus Hook Energy, L.P., Marcus Hook 50, L.P., Milford Power, LLC.

Description: Joint Application for Authorization under Section 203 of the Federal Power Act, et al. of JERA Power Compass, LLC, et al.

Filed Date: 8/9/18.

Accession Number: 20180809-5148.

Comments Due: 5 p.m. ET 8/30/18.

Take notice that the Commission received the following electric rate filings:

Docket Numbers: ER18-2194-000.

Applicants: Fox Creek Farm Solar, LLC.

Description: Baseline eTariff Filing: Baseline new to be effective 9/7/2018.

Filed Date: 8/10/18.

Accession Number: 20180810-5003.

Comments Due: 5 p.m. ET 8/31/18.

Docket Numbers: ER18-2195-000.

Applicants: South Carolina Electric & Gas Company.

Description: § 205(d) Rate Filing: SCPSA Interconnection Agreement to be effective 8/10/2018.

Filed Date: 8/10/18.

Accession Number: 20180810-5053.

Comments Due: 5 p.m. ET 8/31/18.

Docket Numbers: ER18-2196-000.

Applicants: The Potomac Edison Company, PJM Interconnection, L.L.C.

Description: § 205(d) Rate Filing: Potomac Edison submits a Construction Agreement, Service Agreement No. 4799 to be effective 10/10/2018.

Filed Date: 8/10/18.

Accession Number: 20180810-5060.

Comments Due: 5 p.m. ET 8/31/18.

Docket Numbers: ER18-2197-000.

Applicants: PJM Interconnection, L.L.C.

Description: § 205(d) Rate Filing: Clean-up to OATT, Schedule 12—Appendix A (PSEG) to be effective 1/1/2017.

Filed Date: 8/10/18.

Accession Number: 20180810-5087.

Comments Due: 5 p.m. ET 8/31/18.

Docket Numbers: ER18-2198-000.

Applicants: Midcontinent Independent System Operator, Inc., ALLETE, Inc.

Description: § 205(d) Rate Filing: 2018-08-10_SA 3146 Minnesota Power-GRE (Knife Falls) T-L Interconnection Agrmt to be effective 9/1/2018.

Filed Date: 8/10/18.

Accession Number: 20180810-5091.

Comments Due: 5 p.m. ET 8/31/18.

Take notice that the Commission received the following electric securities filings:

Docket Numbers: ES18-55-000.

Applicants: Citizens Sycamore-Penasquitos Transmission LLC.

Description: Application for Authorization under Section 204 of the Federal Power Act of Citizens Sycamore-Penasquitos Transmission LLC.

Filed Date: 8/9/18.

Accession Number: 20180809-5145.

Comments Due: 5 p.m. ET 8/30/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 10, 2018.
Nathaniel J. Davis, Sr.,
Deputy Secretary.

[FR Doc. 2018-17651 Filed 8-15-18; 8:45 am]

BILLING CODE 6717-01-P